DEPARTMENT OF COMMERCE

National Oceanic and Atmospheric Administration

50 CFR Part 622

[Docket No. 140611492-5605-02]

RIN 0648-BE30

Fisheries of the Caribbean, Gulf of Mexico, and South Atlantic; Snapper-Grouper Fishery Off the Southern Atlantic States; Regulatory Amendment 20

AGENCY: National Marine Fisheries Service (NMFS), National Oceanic and Atmospheric Administration (NOAA), Commerce.

ACTION: Final rule.

SUMMARY: NMFS issues regulations to implement Regulatory Amendment 20 to the Fishery Management Plan for the Snapper-Grouper Fishery of the South Atlantic Region (FMP) (Regulatory Amendment 20), as prepared and submitted by the South Atlantic Fishery Management Council (Council). This final rule revises the snowy grouper annual catch limits (ACLs), commercial trip limit, and recreational fishing season. The purpose of this rule is to help achieve optimum yield (OY) and prevent overfishing of snowy grouper while enhancing socio-economic opportunities within the snapper-grouper fishery.

DATES: This rule is effective August 20, 2015.

ADDRESSES: Electronic copies of the regulatory amendment, which includes an environmental assessment and an initial regulatory flexibility analysis (IRFA), may be obtained from the Southeast Regional Office Web site at http://sero.nmfs.noaa.gov/sustainable_fisheries/s_atl/sg/2015/reg_am20/index.html.

FOR FURTHER INFORMATION CONTACT: Nikhil Mehta, telephone: 727-824-5305, or email: nikhil.mehta@noaa.gov.

SUPPLEMENTARY INFORMATION: Snowy grouper is in the snapper-grouper fishery of the South Atlantic and is managed under the FMP. The FMP was prepared by the Council and is implemented through regulations at 50 CFR part 622 under the authority of the Magnuson-Stevens Fishery Conservation and Management Act (Magnuson-Stevens Act).

On April 8, 2015, NMFS published a proposed rule for Regulatory Amendment 20 and requested public comment (80 FR 18797). The proposed rule and Regulatory Amendment 20 outline the rationale for the actions contained in this final rule. A summary of the actions implemented by Regulatory Amendment 20 and this final rule is provided below.

Management Measures Contained in This Final Rule

This final rule revises the snowy grouper ACLs for both the commercial and recreational sectors, the commercial trip limits, and the recreational fishing season. All weights described in the preamble of this final rule are in gutted weight.

Snowy Grouper Commercial and Recreational ACLs

In 2013, a standard stock assessment for snowy grouper was conducted using the Southeast Data, Assessment, and Review (SEDAR) process (SEDAR 36). SEDAR 36 indicates that the snowy grouper stock is no longer undergoing overfishing, remains overfished, and is rebuilding.

This final rule increases the ACLs for snowy grouper based on the acceptable biological catch (ABC) chosen by the Council, as recommended by their Scientific and Statistical Committee (SSC) based on the results of SEDAR 36. The current snowy grouper commercial ACL is 82,900 lb (37,603 kg). This final rule revises the commercial ACL to 115,451 lb (52,368 kg) in 2015; 125,760 lb (57,044 kg) in 2016; 135,380 lb (61,407 kg) in 2017; 144,315 lb (65,460 kg) in 2018; and 153,935 lb (69,824 kg) in 2019, and subsequent fishing years. The current snowy grouper recreational ACL is 523 fish. This final rule revises the snowy grouper recreational ACL to 4,152 fish in 2015; 4,483 fish in 2016; 4,819 fish in 2017, 4,983 fish in 2018; and 5,315 fish in 2019, and subsequent fishing years.

Applying the existing allocation formula for snowy grouper to the change in landings from the SEDAR 36 assessment resulted in a shift in the sector ACLs from 95 percent commercial and 5 percent recreational to 83 percent commercial and 17 percent recreational.

Snowy Grouper Commercial Trip Limit

This final rule revises the snowy grouper commercial trip limit from the current 100 lb (45 kg) to 200 lb (91 kg). The Council determined that since the commercial ACL would be increasing yearly from 2015 to 2019, a relatively small increase in the commercial trip limit to 200 lb (91 kg) would help to maintain a longer fishing season when combined with the commercial ACL increase. Furthermore, because the fishing year for snowy grouper begins on January 1, an increased trip limit could enhance profits for commercial snapper-grouper fishermen during the winter. This is because shallow-water grouper species are closed during January-April, leaving snowy grouper (a deep-water species) as one of few options for purchase by dealers at that time.

Snowy Grouper Recreational Fishing Season

The current snowy grouper fishing season is year-round with a recreational bag limit of one snowy grouper per vessel per day. This final rule revises the recreational fishing season to one snowy grouper per vessel per day from May through August, with no retention of snowy grouper during the rest of the year. The Council determined that reducing the current year-round recreational fishing season to a 4-month season would help minimize the risk of exceeding the recreational ACL. Additionally, the fishing season dates and bag limit for the snowy grouper recreational sector would match those for a co-occurring species, blueline tilefish. The Council determined that similar recreational management measures and fishing seasons for snowy grouper and blueline tilefish would be beneficial to both fish stocks as they are caught at the same depths and have similar high release mortality rates; thereby, discards of both species could be reduced.

Comments and Responses

A total of 24 comments were received on Regulatory Amendment 20 and the proposed rule from individuals, commercial fishing associations, fish markets, and a Federal agency. The Federal agency stated that it had no comment on the proposed rule or Regulatory Amendment 20. The comments that oppose one or more of the management measures in Regulatory Amendment 20 and the proposed rule are summarized and responded to below.

Comment 1: NMFS should not increase the commercial or recreational catch limits for snowy grouper.

Response: NMFS disagrees. In 2013, a standard stock assessment for snowy grouper was conducted through SEDAR 36. SEDAR 36 indicates the snowy grouper stock is no longer undergoing overfishing, remains overfished, and is rebuilding. The previous assessment conducted in 2004 (SEDAR 4) determined snowy grouper was undergoing overfishing and was overfished. The Council's SSC recommended an increase in the ABC to the Council; and the Council then chose a corresponding increase in the commercial and recreational ACLs. The ACLs for the commercial and recreational sectors chosen by the Council and implemented through this final rule are based on the best scientific information available, and are appropriate to maintain a sustainable harvest of the stock, while it continues to rebuild. Thus, catch levels for snowy grouper may now be increased without negatively impacting the stock.

Comment 2: NMFS should not increase the commercial quota while shortening the recreational fishing season.

Response: NMFS disagrees. This final rule for Regulatory Amendment 20 will increase both the commercial and recreational ACLs for snowy grouper based upon the results of the latest stock assessment (SEDAR 36). The ACLs may be increased for the commercial and recreational sectors because the stock is no longer undergoing overfishing, and is rebuilding at a rate that allows the ABC increase recommended by the SSC and the ACL chosen by the Council. Further, changing the recreational fishing season to May through August is expected to reduce the chance that the recreational ACL is exceeded, promote safety at sea for recreational fishermen, and reduce bycatch of snowy grouper.

The current recreational fishing season begins on January 1. Recreational landings for snowy grouper exceeded the recreational ACL by approximately 400 percent in both 2012 and 2013, and 230 percent in 2014, and as a result of the accountability measures (AMs), the recreational sector closed on May 31, in 2013, and on June 7, in 2014. Without a change to the recreational fishing season and with an increased ACL, it is expected that the recreational ACL would still be reached and harvest closed early in the year. Continuing to exceed the ACL could negatively impact the rebuilding of the snowy grouper stock, and the Council determined that changing the fishing season would help minimize the risk of exceeding the recreational ACL.

Additionally, in some areas of the South Atlantic, recreational fishermen must travel long distances offshore to fish for snowy grouper, where conditions can be more challenging for fishermen during times of the year when weather is poor. The months of May through August are when recreational fishermen throughout the South Atlantic generally have more equal access to the resource due to good weather conditions, and would thus benefit the most from the increase in the recreational ACL.

The fishing season dates and bag limit for the snowy grouper recreational sector specified in Regulatory Amendment 20 match those implemented in Amendment 32 to the FMP for blueline tilefish, a co-occurring species with snowy grouper, (80 FR 16583; March 30, 2015). Therefore, this approach could help reduce discard mortality for snowy grouper, which can be targeted along with blueline tilefish. The Council determined that similar recreational management measures and fishing seasons for snowy grouper and blueline tilefish would be beneficial to both fish stocks and reduce bycatch as they are caught at the same depths and have similar high release mortality rates.

Comment 3: NMFS should not start the commercial fishing season on January 1. Inclement weather in North Carolina in the earlier part of the year does not allow equitable access to snowy grouper, which does not conform to National Standard (NS) 4 of the Magnuson-Stevens Act. NMFS should start the commercial fishing season later in the year, and implement split seasons for the commercial sector.

Response: NMFS disagrees that the commercial trip limit action violates NS 4, as the trip limit does not discriminate between residents of different states. The Council did not consider changing the start date of the commercial fishing year from January 1 in Regulatory Amendment 20, but they did consider creating split commercial seasons within the fishing year. The Council acknowledged that fishers in North Carolina have historically had limited access to snowy grouper at the beginning of the fishing year as a result of weather conditions compared to other areas within the Council's jurisdiction. However, snowy grouper are an important commercial species during January to April when the harvest of shallow-water grouper is closed, and snowy grouper sells at a higher market price during that part of the year. The Council determined that the current commercial fishing year allows for enhanced profits per trip and likely enhanced total profits for commercial snapper-grouper fishers. Additionally, if snowy grouper closes in the summer as a result of meeting its commercial quota, there are many other snapper-grouper species open to commercial harvest beginning on May 1. While weather conditions throughout the Council's area of jurisdiction may be variable throughout the year and may not impact certain areas or states in the South Atlantic at the same time in the same way, the snowy grouper fishing season dates are applied the same to all the states. Over the course of an entire fishing season, it is likely that there are comparable opportunities for individuals throughout the South Atlantic with respect to commercial harvest of snowy grouper.

While the Council did consider split seasons for the commercial sector in Regulatory Amendment 20, they determined it would have little effect on extending the fishing season when compared with the Council's preferred alternative. Due to the increase to the commercial ACL in Regulatory Amendment 20, the first split season would likely remain open because the first split season quota would not be met under any of the new trip limit alternatives considered by the Council. Thus, the split season alternative would have the same effect as the preferred alternative of implementing a 200 lb (91 kg) trip limit with no split season, because both choices would result in approximately the same fishing season length.

Therefore, the Council determined that their preferred alternative for this action best met the purpose and need to implement measures expected to prevent overfishing and achieve OY while also complying with the requirements of the Magnuson-Stevens Act and other applicable laws, including NS 4.

Comment 4: NMFS should increase the commercial trip limit to 300 lb (136 kg), not the proposed trip limit increase to 200 lb (91 kg).

Response: NMFS disagrees. The Council considered a trip limit of 300 lb (136 kg), and determined that since the commercial ACL would be increasing yearly from 2015 to 2019, a small increase in the commercial trip limit from 100 lb (45 kg) to 200 lb (91 kg), would help to maintain a longer fishing season when combined with the commercial ACL increase. Analysis in Regulatory Amendment 20 revealed that commercial landings could increase over 100 percent throughout the calendar year with an increase in the commercial trip limit to 300 lb (136 kg). This would result in the commercial ACL being met and harvest closure occurring earlier in the year than for the 200 lb (91 kg) trip limit.

Comment 5: NMFS should not reallocate the increase in commercial and recreational ACLs using unreliable Marine Recreational Fisheries Statistics Survey (MRFSS)/Marine Recreational Information Program (MRIP) data.

Response: The Council is applying their approved existing sector allocation formula for snowy grouper to the updated MRIP landings from SEDAR 36 to specify sector ACLs. The existing sector allocation formula developed and approved in Amendment 15B to the FMP, uses average commercial and recreational landings from 1986-2005 (74 FR 58902, November 16, 2009). SEDAR 36 also included recreational data from Monroe County, Florida, that were not available when snowy grouper was first assessed in 2004 (SEDAR 4) because the recreational landings for Monroe County could not be separated from other west Florida landings. In 2013, a method was developed to separate Monroe County data from other west Florida landings. The change in landings from the SEDAR 36 assessment, as applied to the average commercial and recreational landings for 1986-2005, resulted in a shift in the sector ACLs from the current 95 percent commercial and 5 percent recreational to 83 percent commercial and 17 percent recreational. Additionally, the SEDAR 36 assessment made adjustments to the landings to account for the change from MRFSS to MRIP, and NMFS has determined that this information is the best scientific information available.

Comment 6: The Council's preferred alternative of a 1 fish per vessel per day recreational bag limit with harvest allowed only during the months of May through August will result in North Carolina recreational fishers being geographically disadvantaged. Furthermore, lack of compatible regulations in Florida state waters is not only unfair to North Carolina fishers since North Carolina implements compatible regulations in its state waters, but is potentially detrimental to the snowy grouper population, which is still considered overfished and is under a rebuilding plan.

Response: NMFS disagrees that the Council's choice of the recreational fishing season would result in a geographic disadvantage in accessing the snowy grouper resource by North Carolina fishers. The Council determined that the months of May through August are when recreational fishermen throughout the South Atlantic usually have equal access to the resource as a result of generally improved weather conditions.

NMFS agrees that the lack of consistency in compatible regulations in state waters could have detrimental effects upon the stock as it rebuilds, since the implementation of compatible state regulations can allow for fishery resources to be more effectively conserved. However, based on the most recent stock assessment, the ACLs may be increased for the commercial and recreational sectors because the stock is no longer undergoing overfishing and is rebuilding at a rate that allows the ABC increase recommended by the SSC and the ACL chosen by the Council.

Comment 7: NMFS should not allow snowy grouper to be harvested during the snowy grouper spawning season of April to September.

Response: The Council recognized that spawning for snowy grouper occurs during April to September but determined that reducing the current year-round recreational fishing season to a 4-month season from May through August should reduce the chance that the ACL is exceeded, promote safety at sea, and reduce the bycatch of snowy grouper, as discussed in the response to Comment 2 above. In the commercial sector, the snowy grouper AMs that are in place and the monitoring program to evaluate commercial landings are expected to constrain commercial landings from exceeding the commercial ACL. Therefore, the harvest of snowy grouper that may occur during the spawning season is not expected to result in the ACLs being exceeded and is not expected to negatively impact the stock.

Classification

The Regional Administrator, Southeast Region, NMFS has determined that this final rule is necessary for the conservation and management of South Atlantic snapper-grouper and is consistent with Regulatory Amendment 20, the FMP, the Magnuson-Stevens Act, and other applicable law.

This final rule has been determined to be not significant for purposes of Executive Order 12866.

The Magnuson-Stevens Act provides the statutory basis for this rule. No duplicative, overlapping, or conflicting Federal rules have been identified. In addition, no new reporting, record-keeping, or other compliance requirements are introduced by this final rule.

In compliance with section 604 of the RFA, NMFS prepared a Final Regulatory Flexibility Analysis (FRFA) for this final rule. The FRFA uses updated information, when available, and analyzes the anticipated economic impacts of the final actions and any significant economic impacts on small entities. The FRFA incorporates the IRFA, a summary of the significant economic issues raised by public comment, NMFS' responses to those comments, and a summary of the analyses completed to support the action. The FRFA follows.

No public comments specific to the IRFA were received and, therefore, no public comments are addressed in this FRFA. Certain comments with socio-economic implications are addressed in the comments and responses section, specifically, the response to comments 2, 3, and 6. No changes in the final rule were made in response to public comments.

NMFS agrees that the Council's choice of preferred alternatives would best achieve the Council's objectives for Regulatory Amendment 20 to the FMP while minimizing, to the extent practicable, the adverse effects on fishers, support industries, and associated communities. The preamble to this final rule provides a statement of the need for and objectives of this rule.

NMFS expects this rule to directly affect federally permitted commercial fishers who harvest snowy grouper in the South Atlantic. The Small Business Administration established size criteria for all major industry sectors in the U.S., including fish harvesters and for-hire operations. A business involved in fish harvesting is classified as a small business if it is independently owned and operated, is not dominant in its field of operation (including its affiliates), and its combined annual receipts are not in excess of $20.5 million (NAICS code 114111, finfish fishing) for all of its affiliated operations worldwide.

Charter vessels and headboats (for-hire vessels) sell fishing services, which include the harvest of any species considered in this proposed rule, to recreational anglers. These vessels provide a platform for the opportunity to fish and not a guarantee to catch or harvest any species, though expectations of successful fishing, however defined, likely factor into the decision to purchase these services. Changing the allowable harvest of a species, including a fishery closure, only defines what species may be kept and does not explicitly prevent the continued offer of for-hire fishing services. In response to a change in the allowable harvest of a species, including a zero-fish recreational bag limit, fishing for other species could continue. Because the changes to management measures for species implemented in this final rule will not directly alter the services sold by these vessels, this final rule does not directly apply to or regulate their operations. For-hire vessels will continue to be able to offer their primary product, which is an attempt to “put anglers on fish,” provide the opportunity for anglers to catch whatever their skills enable them to catch, and keep those fish that they desire to keep and are legal to keep. Any changes in demand for these fishing services, and associated economic affects as a result of changing an ACL or establishing fishery closures, would be a consequence of behavioral change by anglers, secondary to any direct effect on anglers, and, therefore, an indirect effect of the proposed regulatory action. Because the effects on for-hire vessels are indirect, they fall outside the scope of the Regulatory Flexibility Analysis (RFA). Recreational anglers, who may be directly affected by the changes in this final rule, are not small entities under the RFA.

NMFS has not identified any other small entities that will be directly affected by this final rule.

The snapper-grouper fishery is a multi-species fishery and vessels generally land many species on the same trip. From 2009 through 2013, an annual average of 138 vessels with valid Federal permits to operate in the commercial sector of the snapper-grouper fishery landed at least 1 lb (0.45 kg) of snowy grouper. Each vessel generated annual average dockside revenues of approximately $78,000 (2013 dollars), of which $2,000 were from snowy grouper, $21,000 from other species jointly landed with snowy grouper, and $55,000 from other species on trips without snowy grouper. Vessels that caught and landed snowy grouper may also operate in other fisheries outside the snapper-grouper fishery, the revenues of which are not known and are not reflected in these totals. Based on revenue information, all commercial vessels directly affected by the final rule may be considered small entities.

Because all entities expected to be affected by this rule are small entities, NMFS has determined that this final rule would affect a substantial number of small entities. Moreover, the issue of disproportionate effects on small versus large entities does not arise in the present case.

The effect of the action to modify the rebuilding strategy for snowy grouper is to adopt the ABC chosen by the Council, as recommended by their SSC based upon the recent stock assessment. Modifying the rebuilding strategy for snowy grouper will have no direct economic effects on small entities, because it will not alter the current use or access to the snowy grouper resource. NMFS notes that the ABC resulting from the modification of the rebuilding strategy will be higher than the status quo ABC for snowy grouper.

Setting the snowy grouper ACL equal to ABC implies that the ACL will increase as a result of the ABC increase. The method for allocating the ACL between the commercial and recreational sectors will remain the same. The change in the commercial and recreational percentage allocation results from the use of the updated landings of snowy grouper from SEDAR 36. Relative to the 2014 ACL, the commercial ACLs will increase by 39 percent in 2015 and continue to increase annually through 2019 to a point where the commercial ACL in 2019 will be 86 percent greater than it was in 2014. Compared to the 2014 ACL, the recreational ACL will increase by 442 percent in 2015 and continue to increase annually through 2019 to a point where the ACL in 2019 will be 623 percent greater than it was in 2014. In principle, the increases in the snowy grouper sector ACLs are expected to result in revenue and profit increases to commercial vessels. The actual results will partly depend on the relationship to the changes in management measures affecting the commercial sector, as discussed below. As noted, for-hire vessels will only be indirectly affected by this action.

Increasing the snowy grouper commercial trip limit from 100 lb (45 kg), to 200 lb (91 kg), will tend to increase the profit per trip of commercial vessels. This higher trip limit will complement the commercial ACL increase in potentially increasing the annual profits of commercial vessels. Given the ACL increase, the commercial fishing season is expected to extend from January 1 through July 19 under the higher trip limit, or January 1 through December 26 under the status quo (No Action) trip limit. Therefore, the commercial trip limit increase will result in a higher profit per trip but a shorter commercial fishing season; whereas the status quo trip limit will be associated with lower profit per trip but a longer fishing season. Which of these two scenarios will result in higher annual profit for commercial vessels cannot be ascertained. What is less uncertain, however, is that the commercial ACL increase will result in higher annual revenues and profits. As noted, the commercial fishing season is projected to last until July 19 under the revised trip limit and ACL increases. Without the ACL increase, the commercial fishing season is projected to last until June 6 under the trip limit increase. Thus, the commercial ACL increase will allow for about 6 extra weeks of commercial fishing for snowy grouper under the revised trip limit increase. Given a longer fishing season and higher profit per trip, revenues and profits of commercial vessels that target snowy grouper are likely to increase.

The following discussion analyzes the alternatives that were not selected as preferred by the Council. Only actions that would have direct economic effects on small entities merit inclusion in the following discussion.

Three alternatives, including the preferred alternative (as described in the preamble), were considered for adjusting the ACLs. The first alternative, the no action alternative, would maintain the current (lower) commercial and recreational ACLs. This alternative would maintain the same economic benefits for commercial vessels but at levels lower than those afforded by the preferred alternative. The second alternative, which has three sub-alternatives, would set ACLs as some percentage of the ABC. The three sub-alternatives are setting the ACL at 95 percent, 90 percent, and 85 percent of the ABC. All three sub-alternatives would have lower positive effects on the profits of commercial vessels than the preferred alternative.

Five alternatives, including the preferred alternative (as described in the preamble), were considered for modifying the management measures for the snowy grouper commercial sector. The first alternative, the no action alternative, would maintain the commercial trip limit of 100 lb (45 kg). Compared to the preferred alternative, the no action alternative would have a lower profit per trip but would also leave the commercial fishing season open almost year-round. Which of these two alternatives would result in higher annual vessel profits for commercial vessels cannot be ascertained. NMFS notes that, if the trip limit is maintained at 100 lb (45 kg), commercial vessels may not take full advantage of the revised ACL that would annually increase until at least 2019.

The second alternative would split the snowy grouper commercial ACL into two quotas: 50 percent to the first period (January 1-April 30) and 50 percent to the second period (May 1-December 31). Any remaining commercial quota from the first period would carry over into the second period; any remaining commercial quota from the second period would not carry over into the next fishing year. The following three sub-alternatives on trip limits would apply to each period: 100 lb (45 kg), 150 lb (47.5 kg), or 200 lb (91 kg). Given the commercial ACL increases, commercial harvest in the first period would likely remain open under any of the alternative trip limits because the commercial quota would not be caught, but commercial harvest in the second period would not be open very long with the highest trip limit resulting in the shortest fishing season. This alternative, with the trip limit of 200 lb (91 kg), would have the same effects on commercial vessel profits as the preferred alternative, because both alternatives would have the same trip limits and the same fishing season length. At lower trip limits, this alternative would allow a longer fishing season but also lower profit per trip than the preferred alternative. It cannot be determined if this alternative, with lower trip limits and a longer fishing season, would result in higher annual profits than the preferred alternative. In an effort to address the accessibility to the snowy grouper resource, the Council considered implementing a commercial split season, as in the second alternative, that would essentially spread out effort over time so that various fishers throughout the Council's area of jurisdiction would have access to the snowy grouper resource. The Council decided to retain the current commercial fishing year as the calendar year because snowy grouper are an important commercial species in the early part of the calendar year, when shallow-water groupers are closed to commercial harvest. In addition, snowy grouper earn higher prices during the early months of the year.

The third alternative would split the snowy grouper commercial ACL into two quotas: 40 percent to the first period (January 1-April 30) and 60 percent to the second period (May 1-December 31). Any remaining commercial quota from the first period would carry over into the second period; any remaining commercial quota from the second period would not carry over into the next fishing year. This alternative would maintain the current commercial trip limit of 100 lb (45 kg), for the first period and establish one of the following trip limits for the second period: 100 lb (45 kg), 150 lb (47.5 kg), 200 lb (91 kg), 250 lb (112.5 kg), or 300 lb (135 kg). Under this alternative and given the ACL increases, commercial fishing would likely remain open throughout the first period but would not be open very long in the second period, with the highest trip limit resulting in the shortest fishing season. As with the second alternative, this alternative, when combined with lower trip limits, would provide longer fishing seasons but lower profit per trip than the preferred alternative. Similarly, this alternative, when combined with higher trip limits, would allow for a higher profit per trip but result in shorter fishing seasons. It cannot be determined if this alternative, with either lower or higher trip limits, would result in greater annual profits than the preferred alternative. Similar to the second alternative, the Council considered a split season to address the accessibility to the resource. For similar reasons mentioned above, this third alternative was not selected as the preferred alternative by the Council.

The fourth alternative is similar to the preferred alternative but would establish a trip limit of either 300 lb (135 kg), or 150 lb (47.5 kg). This alternative would result in a longer fishing season but a lower profit per trip under a trip limit of 150 lb (47.5 kg), or a shorter fishing season and a higher profit per trip under a trip limit of 300 lb (135 kg), than the preferred alternative. The differential impacts on the annual profits of commercial vessels between this alternative and the preferred alternative cannot be determined. However, the preferred alternative appears to provide a better balance between season length and profit per trip than this alternative with trip limits of either 150 lb (47.5 kg), or 300 lb (135 kg).

The fifth alternative would modify the snowy grouper commercial trip limit to 150 lb (47.5 kg), year-round or until the commercial ACL is met or projected to be met, except for the period of May through August from Florida's Brevard/Indian River County line northward when the trip limit will be one of the following: 200 lb (91 kg), 250 lb (112.5 kg), or 300 lb (135 kg). This alternative would provide for a lower trip limit than the preferred alternative, except in May through August when an equal or higher trip limit would be allowed in certain areas. This alternative would likely benefit commercial vessels in areas north of Indian River County, Florida, more than vessels in other areas, at least during the period when vessels in the northern areas are allowed higher trip limits. Whether total profits from all vessels would be higher under this alternative than under the preferred alternative cannot be determined. Although this alternative was not chosen as the preferred alternative, the Council acknowledged that fishermen in North Carolina have historically had limited access to snowy grouper at the beginning of the fishing year due to generally poor winter weather conditions. However, some milder winters in recent years have benefitted fishermen through some increased access to snowy grouper.

Section 212 of the Small Business Regulatory Enforcement Fairness Act of 1996 states that, for each rule or group of related rules for which an agency is required to prepare a FRFA, the agency shall publish one or more guides to assist small entities in complying with the rule, and shall designate such publications as small entity compliance guides. As part of the rulemaking process, NMFS prepared a fishery bulletin, which also serves as a small entity compliance guide. The fishery bulletin will be sent to all interested parties.

List of Subjects in 50 CFR Part 622

Fisheries, Fishing, South Atlantic, Snapper-Grouper, Snowy grouper.

Dated: July 15, 2015.
Samuel D. Rauch III,
Deputy Assistant Administrator for Regulatory Programs, National Marine Fisheries Service.

For the reasons set out in the preamble, 50 CFR part 622 is amended as follows:

PART 622—FISHERIES OF THE CARIBBEAN, GULF OF MEXICO, AND SOUTH ATLANTIC

1. The authority citation for part 622 continues to read as follows:

Authority: 16 U.S.C. 1801 et seq.

2. In § 622.183, paragraph (b)(8) is added to read as follows:

§ 622.183 Area and seasonal closures.

* * * * *

(b) * * *

(8) Snowy grouper recreational sector closure. The recreational sector for snowy grouper in or from the South Atlantic EEZ is closed from January 1 through April 30, and September 1 through December 31, each year. During a closure, the bag and possession limit for snowy grouper in or from the South Atlantic EEZ is zero.

3. In § 622.190, the last sentence in paragraph (a) introductory text and paragraph (a)(1) are revised to read as follows:

§ 622.190 Quotas.

* * * * *

(a) * * * The quotas are in gutted weight, that is eviscerated but otherwise whole, except for the quotas in paragraphs (a)(1), (a)(4), (a)(5), and (a)(6) of this section which are in both gutted weight and round weight.

(1) Snowy grouper—(i) For the 2015 fishing year—115,451 lb (52,368 kg), gutted weight; 136,233 lb (61,794 kg), round weight.

(ii) For the 2016 fishing year—125,760 lb (57,044 kg), gutted weight; 148,397 lb (67,312 kg), round weight.

(iii) For the 2017 fishing year—135,380 lb (61,407 kg), gutted weight; 159,749 lb (72,461 kg), round weight.

(iv) For the 2018 fishing year—144,315 lb (65,460 kg), gutted weight; 170,291 lb (77,243 kg), round weight.

(v) For the 2019 and subsequent fishing years—153,935 lb (69,824 kg), gutted weight; 181,644 lb (82,392 kg), round weight.

* * * * *

4. In § 622.191, the first sentence in paragraph (a)(3) is revised to read as follows:

§ 622.191 Commercial trip limits.

* * * * *

(a) * * *

(3) Snowy grouper. Until the quota specified in § 622.190(a)(1) is reached—200 lb (91 kg), gutted weight; 236 lb (107 kg), round weight.* * *

* * * * *

5. In § 622.193, paragraph (b)(2) is revised to read as follows:

§ 622.193 Annual catch limits (ACLs), annual catch targets (ACTs), and accountability measures (AMs).

* * * * *

(b) * * *

(2) Recreational sector. (i) If recreational landings, as estimated by the SRD, exceed the recreational ACL specified in paragraph (b)(2)(ii) of this section, the AA will file a notification with the Office of the Federal Register, at or near the beginning of the following fishing year, to reduce the length of the following recreational fishing season by the amount necessary to ensure recreational landings do not exceed the recreational ACL in the following fishing year. When NMFS reduces the length of the following recreational fishing season, the following closure provisions apply: The bag and possession limits for snowy grouper in or from the South Atlantic EEZ are zero. These bag and possession limits also apply in the South Atlantic on board a vessel for which a valid Federal commercial or charter vessel/headboat permit for South Atlantic snapper-grouper has been issued, without regard to where such species were harvested, i.e., in state or Federal waters. Recreational landings will be evaluated relative to the ACL based on a moving multi-year average of landings, as described in the FMP.

(ii) The recreational ACL for snowy grouper is 4,152 fish for 2015; 4,483 fish for 2016; 4,819 fish for 2017, 4,983 fish for 2018; 5,315 fish for 2019 and subsequent fishing years.

* * * * *

[FR Doc. 2015-17801 Filed 7-20-15; 8:45 am]

BILLING CODE 3510-22-P